ARCHITECTURAL AND TRANSPORTATION BARRIERS COMPLIANCE BOARD

36 CFR Part 1192

[Docket No. ATBCB 2010-0004]

RIN 3014-AA38

Americans With Disabilities Act (ADA) Accessibility Guidelines for Transportation Vehicles

AGENCY: Architectural and Transportation Barriers Compliance Board.

ACTION: Notice of proposed rulemaking.

SUMMARY: The Architectural and Transportation Barriers Compliance Board (Access Board) is proposing to revise and update its accessibility guidelines for buses, over-the-road buses, and vans. The guidelines ensure that transportation vehicles are readily accessible to and usable by individuals with disabilities. The guidelines apply to the acquisition of new, used, and remanufactured transportation vehicles, and the remanufacture of existing transportation vehicles to the extent required by regulations issued by the Department of Transportation pursuant to the Americans with Disabilities Act. The guidelines for transportation vehicles operated in fixed guideway systems (e.g., rapid rail, light rail, commuter rail, and intercity rail) will be revised and updated at a future date.

DATES: Comments must be received by November 23, 2010.

ADDRESSES: You may submit comments, identified by docket number ATBCB 2010-0004 or RIN number 3014-AA38, by any of the following methods:

• Federal eRulemaking Portal: http://www.regulations.gov. Follow the instructions for submitting comments.

• E-mail: pecht@access-board.gov. Include docket number ATBCB 2010-0004 or RIN number 3014-AA38 in the subject line of the message.

• Fax: 202-272-0081.

• Mail or Hand Delivery/Courier: Office of Technical and Informational Services, Access Board, 1331 F Street, NW., suite 1000, Washington, DC 20004-1111.

All comments received will be posted without change to http://www.regulations.gov, including any personal information provided.

FOR FURTHER INFORMATION CONTACT: Jim Pecht, Architectural and Transportation Barriers Compliance Board, 1331 F Street, NW., suite 1000, Washington, DC 20004-1111. Telephone (202) 272-0021. E-mail pecht@access-board.gov.

SUPPLEMENTARY INFORMATION:

Background

Americans With Disabilities Act

The Americans with Disabilities Act (ADA) prohibits discrimination on the basis of disability in the provision of transportation services by public and private entities. 42 U.S.C. 12101 et seq. The ADA sets out different responsibilities for the Architectural and Transportation Barriers Compliance Board (Access Board) and the Department of Transportation with respect to implementing the statute.

The ADA requires the Access Board to issue guidelines for transportation vehicles that are readily accessible to and usable by individuals with disabilities. 42 U.S.C. 12204. These guidelines, by themselves, are not legally enforceable and do not require existing transportation vehicles to be retrofitted.¹

¹ The Americans with Disabilities Act requires barriers in existing transportation vehicles used by public accommodations for transporting individuals and by private entities to provide specified public transportation to be removed where readily achievable. 42 U.S.C.12182(b)(2)(A)(iv) and 12184(b)(2)(C). The Department of Justice and the Department of Transportation are responsible for issuing regulations implementing this requirement. 28 CFR 36.310 and 49 CFR 37.5(f).

The ADA requires the Department of Transportation to issue regulations that specify:

• Which public and private entities must comply with the transportation provisions of the ADA;

• When transportation vehicles acquired or remanufactured (i.e., structurally restored and new or rebuilt major components installed to extend the vehicle's service life) by the public or private entities must be accessible; and

• What accessibility standards the transportation vehicles must meet. 42 U.S.C. 12149, 12164, and 12186(a).

The ADA requires the accessibility standards for transportation vehicles included in the Department of Transportation's regulations to be consistent with the guidelines issued by the Access Board. 42 U.S.C. 12149, 12163, 12186(c). The Department of Transportation's regulations are legally enforceable.

Prior Rulemaking

The Access Board issued accessibility guidelines for transportation vehicles in 1991 and amended the guidelines in 1998 to include additional requirements for over-the-road buses (i.e., buses characterized by an elevated passenger deck located over a baggage compartment). 56 FR 45530, September 6, 1991; 63 FR 51694, September 28, 1998. The Access Board's transportation vehicle guidelines are codified at 36 CFR part 1192.

The Department of Transportation issued regulations to implement the transportation provisions of the ADA in 1991. 56 FR 45621 and 45756, September 6, 1991. The Department of Transportation's regulations are codified at 49 CFR parts 37 and 38. The Department of Transportation's regulations at 49 CFR part 37 specify in:

• Subpart B (§§ 37.21 to 37.37) which public and private entities must comply with the transportation provisions of the ADA;

• Subpart D (§§ 37.71 to 37.93) when transportation vehicles acquired or remanufactured by public entities must be accessible;

• Subpart E (§§ 37.101 to 37.109) when transportation vehicles acquired or remanufactured by private entities must be accessible; and

• Subpart H (§§ 37.181 to 37.197) when over-the-road buses acquired or remanufactured by private entities must be accessible.

The Department of Transportation's regulations at 49 CFR part 38 set out the accessibility standards that the transportation vehicles must meet. The accessibility standards in 49 CFR part 38 are consistent the Access Board's transportation vehicle guidelines in 36 CFR part 1192.

Proposed Rule

The Access Board is issuing this proposed rule to revise and update its accessibility guidelines for buses, over-the-road buses, and vans (hereinafter referred to as the “1991 guidelines”). The guidelines for transportation vehicles operated in fixed guideway systems (e.g., rapid rail, light rail, commuter rail, and intercity rail) will be revised and updated at a future date.

The proposed rule addresses the following issues, which are further discussed later in the preamble:

• When the 1991 guidelines were issued, low floor ramped buses were relatively new and ramp slopes were based on what was feasible at the time. The 1991 guidelines permitted 1:4 maximum ramp slopes at bus stops without sidewalks. There are documented incidents of wheelchairs and their occupants tipping over backwards going up bus ramps with 1:4 slopes. Since the 1991 guidelines were issued, buses have been designed with lower floors and longer ramps that have less steep ramps. The proposed rule specifies 1:6 maximum slopes for ramps deployed to bus stops with sidewalks and to bus stops without sidewalks (referred to as the “roadway” in the proposed rule).

• The 1991 guidelines require buses, over-the-road buses, and vans to provide “sufficient clearances” for passengers who use wheelchairs to reach the wheelchair spaces in the vehicles. Individuals with disabilities, transit operators, and vehicle manufacturers have requested guidance on what are “sufficient clearances.” The proposed rule specifies minimum dimensions for circulation paths connecting doorways that provide accessible boarding and wheelchair spaces, and for wheelchairs to maneuver into and out of wheelchair spaces.

• Additional research has been conducted on wheelchair transportation safety since the 1991 guidelines were issued. The proposed rule reduces the design force for wheelchair securement systems on large vehicles with a gross vehicle weight rating of 30,000 pounds or more, and adds a requirement for a forward excursion barrier at rear facing wheelchair securement systems based on the research. The proposed rule also requests comments on other recommendations submitted by researchers and safety experts regarding wheelchair securement systems.

• Public transit agencies are increasingly deploying intelligent transportation system technologies on buses. These technologies enable automated stop and route announcements on buses. The proposed rule requires public transit agencies that operate 100 or more buses in annual maximum service in fixed route systems to provide automated stop and route announcements on newly acquired buses that are more than 22 feet in length and operate in fixed route systems.

• Bus rapid transit is a new type of service that did not exist when the 1991 guidelines were issued. Some bus rapid transit systems are designed with raised platforms to provide level boarding, and the vehicles which operate in these systems can have passenger doors on both sides of the vehicle. The proposed rule addresses how the requirements for accessible boarding, circulation paths, and doorways apply to vehicles which operate in bus rapid transit systems that provide level boarding.

The proposed rule also removes some requirements in the 1991 guidelines that are unnecessary, modifies other requirements, and adds a few new requirements. A side-by-side comparison of the proposed rule and the 1991 guidelines is available on the Access Board's Web site at http://www.access-board.gov/transit/. The side-by-side comparison shows what requirements are removed, modified, or new.

New Format and Organization

The 1991 guidelines for buses and vans are contained in subpart B of 36 CFR part 1192 (§§ 1192.21 to 1192.39) and for over-the-road buses are contained in subpart G of 36 CFR part 1192 (§§ 1192.151 to 1192.161).

The proposed rule uses a new format and organization that is based on the accessibility guidelines for buildings and facilities in 36 CFR part 1191. The new format sets forth the guidelines for buses, over-the-road buses, and vans in an appendix to 36 CFR part 1192. The appendix is organized into eight chapters:

• Chapter T1 contains general information, including definitions.

• Chapter T2 contains scoping requirements that specify what vehicle features are required to be accessible.

• Chapters T3 through T8 contain technical requirements that specify how to design the vehicle features so they are accessible.

When the guidelines for transportation vehicles operated in fixed guideway systems are revised and updated in the future, the scoping and technical requirements for those vehicles will be added to Chapters T2 through T8.

Each chapter is arranged logically, and contains numbered sections and sub-sections that address a single subject indicated by the heading or title of the section and subsection. Figures are provided after some sections or subsections to illustrate the requirement in the section or subsection. Non-mandatory advisory information is inserted in boxes after some sections or subsections and is clearly identified.

Most of the revisions in the proposed rule are editorial only, and restate current requirements in the 1991 guidelines in plain language that is clear and easy to understand. The side-by-side comparison of the proposed rule and the 1991 guidelines on the Access Board's Web site at http://www.access-board.gov/transit shows what revisions are editorial only.

Proposed Changes That Received Substantial Comment

The Access Board made available drafts of the proposed rule for public review and comment in April 2007 and November 2008. The drafts and comments on the drafts are available on the Access Board's Web site at: http://www.access-board.gov/transit/. Proposed changes that received substantial comment are discussed below. Sections of the proposed rule are referred to by number (e.g., T201).

Ramp Slope

Current Requirements

When the 1991 guidelines were issued, low floor ramped buses were relatively new. The Access Board did not want to preclude the use of low floor ramped buses because of their efficiency and speed of boarding compared to high floor buses equipped with lifts. Consequently, the ramp slopes in the 1991 guidelines were based on what was feasible at the time. The 1991 guidelines specify a range of maximum slopes for ramps deployed to bus stops with sidewalks and to bus stops without sidewalks.² The maximum ramp slopes in the 1991 guidelines are shown in the table below and are expressed as the ratio of the rise (distance from bus stop surface to bus floor surface) to the run (usable length of the ramp).

² 36 CFR 1192.23(c)(5) and 1192.159(c)(5).

1991 Guidelines
Height of vehicle floor above 6 inch curb* | Maximum ramp slope
Bus Stops with Sidewalks
3 inches or less | 1:4
6 inches or less but more than 3 inches | 1:6
9 inches or less but more than 6 inches | 1:8
more than 9 inches | 1:12
Bus Stops without Sidewalks
Height of vehicle floor above roadway | Maximum ramp slope
Any distance | 1:4
*The 1991 guidelines assume a 6 inch curb at sidewalks.

The following example illustrates the application of the 1991 guidelines. A low floor bus with a 15-inch-high floor that can be lowered by the suspension system (“kneeled”) to 12 inches at bus stops would have to provide a ramp that is at least 48 inches long to meet the maximum slope requirements at both bus stops with sidewalks and bus stops without sidewalks. At bus stops with sidewalks, the ramp slope would be 1:8. At bus stops without sidewalks, the ramp slope would be 1:4, or twice as steep as at bus stops with sidewalks.

Proposed Rule

Since the 1991 guidelines were issued, buses have been designed with lower floors and longer ramps that have less steep ramps.³ Research shows that short ramps with slopes steeper than 1:8 are difficult for individuals with disabilities to use.⁴ There are documented incidents of wheelchairs and their occupants tipping over backwards going up bus ramps with 1:4 slopes. A study of adverse incident reports from one public transit agency shows that a large percent of the incidents involving passengers who use wheelchairs occur while using bus ramps.⁵

³ The Transbus prototype for the low floor ramped bus had a 17-inch-high floor that kneeled to approximately 13 inches and a 48-inch-long ramp. Low floor ramped buses available today have floors that are 14 to 15 inches high and can kneel to as low as 10 inches, and ramps that are as long as 60 inches.

⁴ Templer, J., “Provisions for Elderly and Handicapped Pedestrians, Vol. 3: The Development and Evaluation of Countermeasures,” Report No. FHWA-RD-79-3 Prepared for the Federal Highway Administration, Department of Transportation (May 1980), pp. 2-34.

⁵ The transit agency reported 155 adverse incidents involving passengers who use wheelchairs during a six-year period from 2000 to 2005. In 49 of the incidents (42.6 percent), the passengers were going up or down bus ramps. In 29 of the incidents (25.7 percent), the wheelchairs tipped over on the bus ramps and/or the passenger fell. Frost K. & Bertocci, G., “Retrospective review of adverse incidents involving passengers seated in wheeled mobility devices while traveling in large accessible transit vehicles,” 32 Medical Engineering & Physics 230-236 (2010).

T303.8.1 simplifies the requirements for ramp slope by specifying a 1:6 maximum slope for ramps deployed to bus stops with sidewalks and to bus stops without sidewalks (referred to as the “roadway” in the proposed rule).

The following example illustrates the application of T303.8.1. A low floor bus with a 14-inch-high floor that can be lowered by the suspension system (“kneeled”) to 10 inches at bus stops would have to provide a ramp that is at least 60 inches long to meet the 1:6 maximum slope to the roadway. At bus stops with sidewalks, the ramp slope would be 1:15 (assuming a 6-inch curb).

Bus and ramp manufacturers who commented on the drafts of the proposed rule provided varied information on this proposed change. Some bus and ramp manufacturers stated that the proposed 1:6 maximum slope to the roadway is feasible. Other bus manufacturers stated that the proposed 1:6 maximum slope to the roadway would involve significant structural changes to buses, or may not be feasible for certain model buses.

Question 1: Bus and ramp manufacturers are requested to provide additional information on the feasibility of the proposed 1:6 maximum slope to the roadway. If significant structural changes to buses are involved, provide information on the lead time for making the changes; the costs associated with the changes; and how much the changes would add to the cost per bus. If it is not feasible or would be too costly for certain model buses to meet the proposed 1:6 maximum slope to the roadway, provide information on the vehicle's design constraints; the vehicle's floor height to the roadway at the doorway where the ramp is deployed (in the kneeled position where a “kneeling” feature is provided); and the usable length of the vehicle's ramp when deployed to the roadway.

Question 2: Van and ramp manufacturers and converters are requested to provide information on the feasibility of the proposed 1:6 maximum slope to the roadway for vans equipped with ramps, and any additional costs that would be incurred as a result of the proposed 1:6 maximum slope to the roadway.

Question 3: If it is not feasible or would be too costly for certain model buses or vans to provide ramps with 1:6 maximum slopes to the roadway, what alternative solutions should the Access Board or the Department of Transportation consider? For example, on fixed route systems where some or all of the bus stops on a particular route do not have sidewalks should only buses or vans that provide ramps with 1:6 maximum slopes to the roadway or are equipped with lifts be permitted to operate on that route? This would prevent incidents of wheelchairs and their occupants tipping over on steep ramps. Do different considerations apply to demand responsive systems? For example, are drivers of buses and vans used in demand responsive systems more likely to provide boarding assistance to passengers who use wheelchairs when ramps are deployed to the roadway and have slopes steeper than 1:6? What solutions do transit operators currently implement when ramps are deployed to the roadway and have slopes steeper than 1:6?

Public transit agencies who commented on the drafts of the proposed rule expressed concern that longer ramps (e.g., bi-fold ramps) will be more costly to maintain. Public transit agencies also expressed operational concerns about deploying longer ramps in urban environments with narrow sidewalks and streets.

Question 4: Ramp manufacturers and public transit agencies that provide longer ramps on their buses are requested to provide information on whether longer ramps are more costly to maintain. If longer ramps are more costly to maintain, provide data on the annual costs to maintain a longer ramp (e.g., 60 inches) and a shorter ramp (e.g., 48 inches).

Question 5: Public transit agencies and others are requested to provide information on possible solutions to operational concerns about deploying longer ramps in urban environments with narrow sidewalks and streets. For example, should a public transit agency that operates buses in urban environments where all the bus stops have sidewalks be permitted to provide a 1:8 maximum slope to the sidewalk (assuming a 6-inch curb), instead of a 1:6 maximum slope to the roadway? If a public transit agency operates buses in urban environments where all the bus stops have sidewalks, and in other environments where some or all of the bus stops do not have sidewalks, and the public transit agency assigns low floor ramped buses with shorter ramps to the urban environments only, and assigns low floor ramped buses with longer ramps or lift equipped buses to the other environments, should the public transit agency be permitted to provide a 1:8 maximum slope to the sidewalk (assuming a 6-inch curb), instead of a 1:6 maximum slope to the roadway on the low floor ramped buses that are assigned to the urban environments only?

Question 6: Public transit agencies are requested to provide the following information to assist the Access Board evaluate the impacts of the ramp slope requirements in the 1991 guidelines and the proposed rule:

• The number and percentage of bus stops in fixed route systems that do not have sidewalks;

• The number of individuals who are paratransit eligible because they cannot use buses with steep ramps, the average cost per paratransit trip, and the average number of paratransit trips per passenger per week; and

• The number of adverse incident reports for the past five years (2005-2009) involving low floor ramped buses and passengers who use wheelchairs or scooters, and how many of the incidents occurred while using ramps.

Circulation Paths Connecting Doorways That Provide Accessible Boarding and Wheelchair Spaces

Current Requirements

The Department of Transportation regulations require transit operators to transport wheelchairs and scooters that are up to 30 inches wide and 48 inches long.⁶ The 1991 guidelines require buses, over-the-road buses, and vans to provide “sufficient clearances” for passengers who use wheelchairs to reach the wheelchair spaces in the vehicles.⁷ Individuals with disabilities, transit operators, and vehicle manufacturers have requested guidance on what are “sufficient clearances.”

⁶ 49 CFR 37.3 (definition of “wheelchair” and “common wheelchair”) and 37.165(b).

⁷ 36 CFR 1192.23(a) and 1192.159(a)(1).

The 1991 guidelines require large buses that are more than 22 feet and over-the-road buses to provide at least two wheelchair spaces; and small buses and vans that are 22 feet or less to provide at least one wheelchair space. Id. The wheelchair spaces are required to be located as near as practicable to doorways that provide accessible boarding, and to be identified by the International Symbol of Accessibility. 36 CFR 1192.23(d)(2), 1192.27(b), and 1192.159(d)(2). The proposed rule does not change these requirements.

Proposed Rule

T502.2 requires circulation paths connecting doorways that provide accessible boarding and wheelchair spaces to be at least 34 inches wide. This dimension does not apply to doorways, which are addressed in T503. This dimension applies from the vehicle floor to a height 40 inches minimum above the vehicle floor. The circulation path width can be reduced to 30 inches at heights 40 inches minimum above the vehicle floor.⁸

⁸ The overhead clearances for circulation paths specified in T502.2 are the same as in the 1991 guidelines. 36 CFR 1192.29(f) and 1192.153(d). The requirement in T502.3 that features such as stanchions and fare collection devices not interfere with the maneuvering of wheelchairs is the same as in the 1991 guidelines. 36 CFR 1192.23(a) and (e), and 1192.33.

Bus manufacturers who commented on the drafts of the proposed rule provided varied information on this proposed change. Some bus manufacturers stated that 34-inch-wide circulation paths are feasible. Other bus manufacturers stated that seats would have to be eliminated to provide 34-inch-wide circulation paths.

Question 7: Bus manufacturers and transit operators are requested to provide additional information on the feasibility of the proposed clear width for circulation paths connecting doorways that provide accessible boarding and wheelchair spaces. If the proposed clear width will result in a loss of seats compared to the current requirement for “sufficient clearances,” provide information on the width of the circulation path currently provided on the vehicle to reach the wheelchair space(s), and the number of seats that would be lost due to the proposed clear width. Floor and seating plans showing current designs and how the designs would have to be modified to comply with the proposed rule would be helpful for the Access Board to further evaluate this issue. Information describing how the loss of seats would affect the transit operator's system would also be helpful.

Question 8: Van manufacturers and converters are requested to provide information on the feasibility of the proposed clear width for circulation paths connecting doorways that provide accessible boarding and wheelchair spaces. If the proposed clear width will result in modifications to vans compared to the current requirement for “sufficient clearances,” provide information on what modifications would be needed and any costs associated with the modifications. Information describing how the modifications would affect the transit operator's system would also be helpful.

The proposed rule does not address maneuvering space at turns, particularly right angle turns at the front of the bus. Some commenters recommended that performance specifications, including test methods, be established for passengers who use wheelchairs to reach wheelchair spaces in buses, over-the-road buses, and vans. The Rehabilitation Engineering Research Center on Accessible Public Transportation is developing a computer-aided design tool for the accessible design of vehicle interiors that may be useful for this purpose.

Question 9: Comments are requested on whether performance specifications should be established for passengers who use wheelchairs to reach wheelchair spaces in buses, over-the-road buses, and vans, and approaches for establishing such performance specifications.

Wheelchair Space Maneuvering Clearances

Current Requirements

As explained above, the Department of Transportation regulations require transit operators to transport wheelchairs and scooters that are up to 30 inches wide and 48 inches long.⁹ The 1991 guidelines require wheelchair spaces in buses, over-the-road buses, and vans to be at least 30 inches wide and 48 inches long.¹⁰

⁹ See note 6.

¹⁰ 36 CFR 1192.23(d)(2) and 1192.159(d)(2).

Wheelchair spaces in buses, over-the-road buses, and vans are typically confined on three sides by seats, side walls, or wheel wells. Passengers who use wheelchairs and scooters need additional clearances to maneuver into and out of confined wheelchair spaces. As explained above, the 1991 guidelines require buses, over-the-road buses, and vans buses to provide “sufficient clearances” for passengers who use wheelchairs to reach wheelchair spaces in the vehicles.¹¹ Individuals with disabilities, transit operators, and vehicle manufacturers have requested guidance on what are “sufficient clearances.”

¹¹ See note 7.

Proposed Rule

The drafts of the proposed rule considered basing wheelchair space maneuvering clearances in buses, over-the-road buses, and vans on the dimensions for maneuvering clearances in alcoves in the accessibility guidelines for buildings and facilities.¹² Transit operators and vehicle manufacturers commented that those dimensions would result in the loss of a significant number of seats, and would involve significant structural changes to paratransit minivans that provide rear entry to wheelchair spaces. The proposed rule does not use the dimensions for maneuvering clearances in alcoves in the accessibility guidelines for buildings and facilities.

¹² The accessibility guidelines for buildings and facilities require 12 inches minimum maneuvering clearance for parallel approach into and out of an alcove, and 6 inches minimum maneuvering clearance for forward approach into and out of an alcove. 36 CFR part 1191, Appendix D, 305.7.

The proposed rule uses the following dimensions recommended by transit operators for wheelchair space maneuvering clearances in buses, over-the-road buses, and vans:

• T402.4.1 requires 1 inch minimum maneuvering clearance on the short side of wheelchair spaces entered from the front or rear [the total size of the wheelchair space and maneuvering clearance is 31 inches by 48 inches minimum]; and

• T402.4.2 requires 6 inches minimum maneuvering clearance on the long side of wheelchair spaces entered from the side [the total size of the wheelchair space and maneuvering clearance is 30 inches by 54 inches minimum].

The transit operators who recommended these dimensions stated that they will provide “sufficient clearances” for most wheelchairs and scooters to maneuver into and out of wheelchair spaces in buses, over-the-road buses, and vans, and will not result in a loss of seats or structural changes to paratransit minivans that provide rear entry to wheelchair spaces.

Fold-down seats are permitted to occupy the wheelchair space and maneuvering clearance provided the wheelchair space and maneuvering clearance are not obstructed when the seats are in the up position. Fold-down seats are permitted to occupy the maneuvering clearance when the wheelchair space is occupied. Figures are provided in T402.4.1 and T402.4.2 to illustrate the wheelchair space and maneuvering clearance, and use of fold-up seats.

Question 10: Individuals with disabilities are requested to comment on whether the proposed maneuvering clearances are sufficient for wheelchairs and scooters to maneuver into and out of wheelchair spaces in buses, over-the-road buses, and vans.

Question 11: Transit operators and vehicle manufacturers are requested to comment on whether the proposed maneuvering clearances and use of fold-down seats will result in a loss of seats compared to the current requirement for “sufficient clearances.” If the proposed maneuvering clearances and use of fold-down seats will result in a loss of seats, provide information on the size of the clearances currently provided on the vehicle to maneuver into and out of the wheelchair space(s), and the number of seats that would be lost due to the proposed maneuvering clearances. Floor and seating plans showing current designs and how the designs would have to be modified to comply with the proposed rule would be helpful for the Access Board to further evaluate this issue. Information describing how the loss of seats would affect the transit operator's system would also be helpful.

Question 12: Manufacturers and operators of paratransit minivans are requested to provide information on the feasibility of providing additional maneuvering clearance (beyond 1 inch) for rear entry to a wheelchair space without making significant structural changes to the vehicles.

Wheelchair Securement Systems

Current Requirements

The 1991 guidelines require buses, over-the road-buses, and vans to provide wheelchair securement systems at each wheelchair space.¹³ The 1991 guidelines specify that the wheelchair securement systems secure the wheelchair so that the occupant faces the front or rear of the vehicle.¹⁴ On large buses that are more than 22 feet in length, at least one wheelchair securement system must be front facing.¹⁵ Side facing securement is not permitted.

¹³ 36 CFR 1192.23(a) and 1192.159(a)(1). The proposed rule does not change this requirement.

¹⁴ 36 CFR 1192.23(d)(4) and 1192.159(d)(4). The proposed rule does not change this requirement.

¹⁵ Id. The proposed rule does not change this requirement.

Proposed Rule

The proposed rule includes two changes to the current technical requirements for wheelchair securement systems based on research conducted on wheelchair transportation safety since the 1991 guidelines were issued.

T403.3.1 reduces the minimum force that wheelchair securement systems must be designed to restrain wheelchairs and their occupants in the forward longitudinal direction in large vehicles with a gross vehicle weight rating of 30,000 pounds or more. The design force is reduced from 4,000 pounds to 2,000 pounds based on research showing the “g” loads generated on wheelchairs and their occupants in large vehicles under the following conditions: Maximum acceleration (0.2g), maximum braking (0.85g), rapid turning (0.5g), and frontal collision (3g).¹⁶ Wheelchair securement systems that are designed to restrain a force of 2,000 pounds in the forward longitudinal direction in large vehicles would provide an appropriate level of protection based on these “g” loads.

¹⁶ The research is referenced in comments submitted by the Rehabilitation Engineering and Assistive Technology Society of North America and Rehabilitation Engineering Research Center on Wheelchair Transportation Safety. The comments are available on the Access Board's Web site at: http://www.access-board.gov/transit/.

Question 13: Comments are requested on this proposed reduction in design force for wheelchair securement systems in large vehicles. How will the proposed change affect the costs for wheelchair securement systems in large vehicles?

T403.5 modifies the technical requirements for rear facing wheelchair securement systems to include a forward excursion barrier in addition to the current requirement for a padded headrest. The forward excursion barrier extends from the vehicle floor to a height of 24 inches minimum for the full width of the wheelchair space.¹⁷

¹⁷ The dimensions for the forward excursion barrier are based on comments submitted by the Rehabilitation Engineering and Assistive Technology Society of North America. The comments are available on the Access Board's Web site at: http://www.access-board.gov/transit/.

Question 14: Comments are requested on including a forward excursion barrier in the technical requirements for rear facing wheelchair securement systems. Are rear facing securement systems commonly provided in buses, over-the road-buses, and vans? Where provided in new buses, over-the road-buses, and vans, do rear facing securement systems currently include forward excursion barriers? Will the forward excursion barrier result in any additional costs for new buses, over-the road-buses, and vans that provide rear facing securement systems?

Recommendations Submitted by Researchers and Safety Experts That Are Not Included in the Proposed Rule

Researchers and safety experts who commented on the drafts of the proposed rule submitted four recommendations regarding the technical requirements for wheelchair securement systems that are not included in the proposed rule. Their recommendations are summarized below.

1. SAE Recommended Practice J2249, Wheelchair Tiedown and Occupant Restraint Systems for Use in Motor Vehicles (June 9, 1999)

Researchers and safety experts recommended that front facing wheelchair securement systems comply with SAE Recommended Practice J2249, Wheelchair Tiedown and Occupant Restraint Systems for Use in Motor Vehicles (June 9, 1999).¹⁸ SAE Recommended Practice J2249 specifies design requirements, performance requirements, and test methods for wheelchair tiedown and occupant restraint systems for use in motor vehicles, and includes requirements for product marking and labeling and manufacturer's instructions to installers and users.

¹⁸ SAE Recommended Practice J2249 is being revised and updated, and will be published as the American National Standards Institute (ANSI)/Rehabilitation Engineering and Assistive Technology Society of North America (RESNA) WC-18 standard.

2. Wheelchair Securement Systems in Small Vehicles

Researchers and safety experts recommended that rear facing wheelchair securement systems not be permitted in small vehicles with a gross vehicle weight rating of less than 30,000 pounds because current wheelchair securement systems have not been designed and tested to secure rear facing wheelchairs in small vehicles and to withstand the high “g” loads generated on wheelchairs and their occupants in a small vehicle by a frontal collision. They also recommended that the 5,000 pounds minimum design force specified in the 1991 guidelines for small vehicles be increased for forward facing wheelchair securement systems.

3. Movement Under Emergency Driving Conditions

Researchers and safety experts recommended that performance specifications and test methods be established for wheelchair securement systems to limit movement of an occupied wheelchair under emergency driving conditions, such as maximum braking and rapid turning.

4. Rear Facing Compartmentalization

Researchers and safety experts recommended that “rear facing compartmentalization” be permitted in large vehicles with a gross vehicle weight rating of 30,000 pounds or more, especially bus rapid transit vehicles. “Rear facing compartmentalization” is used in Europe and Canada. As explained by the researchers and safety experts, in “rear facing compartmentalization” the wheelchair occupant backs as close as possible to a rear-facing padded excursion barrier and there is a means to prevent the wheelchair from tipping into the aisle. “Rear facing compartmentalization” assumes that the wheelchair has brakes which are functioning and that the friction between the wheelchair wheels and the floor is high enough to prevent sliding. “Rear facing compartmentalization” does not require the attachment of wheelchair securement systems to the wheelchair. Researchers and safety experts also recommended that seat belts and shoulder belts should not be required where “rear facing compartmentalization” is permitted in large vehicles.

Question 15: Comments are requested on whether any of the above recommendations should be included in a subsequent rulemaking.

Automated Stop and Route Announcements

Current Requirements

The 1991 guidelines require buses that are more than 22 feet in length and operate in fixed route systems to provide public address systems for announcing stops.¹⁹ The Department of Transportation regulations require stops and routes to be announced.²⁰ These requirements apply to both public transit agencies and private transit operators. Failure to announce stops and routes is a frequent source of complaints to the Department of Transportation and lawsuits against public transit agencies.

¹⁹ 36 CFR 1192.35(a).

²⁰ 49 CFR 37.167(b) and (c).

Proposed Rule

Public transit agencies are increasingly deploying intelligent transportation system technologies that enable automated stop and route announcements. Automated announcements provide standardized messages and result in increased compliance with current regulatory requirements.

The drafts of the proposed rule considered requiring public transit agencies to provide automated stop and route announcements on buses that are more than 22 feet in length and operate in fixed route systems. The American Public Transportation Association commented that the cost of providing automated announcements would be burdensome for small public transit agencies, and recommended that only large public transit agencies that operate 100 or more buses in peak service be required to provide automated announcements.

T203.13 requires large public transit agencies that operate 100 or more buses in annual maximum service in fixed route systems, as reported in the National Transit Database, to provide automated stop and route announcements on buses that are more than 22 feet in length and operate in fixed route systems.

The Access Board prepared a report to estimate the costs of this proposed change. The report is available on the Access Board's Web site at: http://www.access-board.gov/transit/. According to the National Transit Database, 87 public transit agencies operate 100 or more buses in annual maximum service in fixed route systems. More than 90 percent of these public transit agencies currently provide automated stop and route announcements on buses. The report assumes that the public transit agencies will continue to provide automated announcements on buses in the future, and will not incur any additional costs as a result of the proposed rule.

Only 7 public transit agencies that operate 100 or more buses in annual maximum service in fixed route systems do not currently provide automated stop and route announcements on buses. The total estimated costs of requiring automated announcements for the 7 public transit agencies are presented below. The cost estimates include one-time costs to equip new buses and to set-up backend systems for implementing automated announcements, and on-going maintenance and operation costs for the bus equipment and backend systems. The low cost and high cost scenarios account for variables that can affect the costs.

| Costs | Present value (3%)* | Present value (7%)*
Low Cost Scenario
Total Costs Over 12 Year Bus Replacement Cycle | $9,548,280 | $8,027,897 | $6,534,112
Annualized Costs | 795,690 | 668,991 | 544,509
High Cost Scenario
Total Costs Over 12 Year Bus Replacement Cycle | 19,678,022 | 16,809,905 | 13,970,121
Annualized Costs | 1,639,835 | 1,400,825 | 1,164,767
* Present value is based on discount rates in OMB Circular No. A-94.

Question 16: Comments are requested on the report estimating the costs of requiring automated stop and route announcements, including the data and assumptions in the report.

Forty (40) of the public transit agencies that operate 100 or more buses in annual maximum service in fixed route systems contract with private entities to operate some or all of the buses. The Department of Transportation regulations require a private entity that acquires vehicles to operate in a fixed route system under contract with a public transit agency to comply with the accessibility standards applicable to the public transit agency.²¹ The report estimating the costs of requiring automated stop and route announcements identifies the 40 public transit agencies that contract with private entities to operate buses in their fixed route systems, and the private entities that operate the buses. These private entities would have to comply with T203.13 if they acquire buses to operate in fixed route systems under contract with the public transit agencies. These private entities would not be affected by T203.13 if the public transit agencies provide the buses to the private entities to operate, or if the private entities deploy buses from their existing fleets to operate in the fixed route systems under contract with the public transit agencies. Information is not available on whether any of the private entities that contract with the public transit agencies acquire buses to operate in fixed route systems under contract with the public transit agencies.

²¹ 49 CFR 37.23(b).

Question 17: Private entities that contract with public transit agencies operating 100 or more buses in annual maximum service in fixed route systems and acquire buses to operate in the fixed route systems under contract with the public transit agencies, are requested to provide information on the number of buses acquired on an annual basis for operation in the fixed route systems under contract with the public transit agencies, and whether the buses provide automated stop and route announcements.

For public transit agencies that have invested in intelligent transportation system technologies, the incremental cost of providing automated stop and route announcements is relatively low compared to public transit agencies that do not invest in such technologies. The Access Board is considering as an alternative requiring only public transit agencies that have invested in intelligent transportation system technologies to provide automated announcements. Under this alternative, large public transit agencies that have not invested in intelligent transportation system technologies would not be required to do so in order to provide automated announcements. Small public transit agencies that have invested in intelligent transportation system technologies would be required to provide automated announcements, and many of these public transit agencies currently provide automated announcements. The requirement to provide automated announcements would apply only to newly acquired buses. Existing buses would not be required to provide automated announcements.

Question 18: Comments are requested on whether only public transit agencies that have invested in intelligent transportation system technologies should be required to provide automated stop and route announcements.

T704.1 requires automated stop and route announcements to use recorded or digitized human speech. T704.2 requires the stop announcements to be audible within the vehicle, and T704.3 requires the route announcements to be audible at boarding and alighting areas. T704.2 also requires signs within the bus to display stops.

Question 19: Comments are requested on whether there are appropriate standards for audio quality that should be referenced in T704.1 or recommended in advisory information.

Question 20: Comments are requested on whether intelligent transportation system technologies currently in use have the capability to communicate stop and route information to passengers through personal communications devices (e.g., text messaging), in addition to audible and visible announcements through speakers and signs. If intelligent transportation system technologies do not have this capability, are there other technologies that can communicate stop and route information to passengers through personal communications devices (e.g., text messaging)? Comments are requested on the costs and benefits of communicating stop and route information to passengers through personal communications devices.

Service Issues

Transit operators who commented the drafts of the proposed rule requested guidance on the transportability of certain size wheelchairs and mobility devices (e.g., Segways). The Department of Transportation is responsible for issuing regulations regarding the provision of transportation services to individuals with disabilities under the Americans with Disabilities Act. The Department of Transportation regulations specify the size of wheelchairs that must be transported.²² The Department of Transportation has also issued guidance on the use of Segways on transportation vehicles.²³ The Department of Transportation will conduct a separate rulemaking to amend its regulations so that the accessibility standards included in the regulations are consistent with the revisions to Access Board's transportation vehicle guidelines. Comments on transportability of certain size wheelchairs and mobility devices, and other service issues should be submitted to the Department of Transportation when it amends its regulations.

²² 49 CFR 37.3 (definition of “wheelchair” and “common wheelchair”) and 37.165 (b). This proposed rule does not use the term “common wheelchair” because the relevant technical requirements for lift platforms, ramps and bridgeplates, circulation paths, and wheelchair spaces specify the appropriate dimensions for those features.

²³ Use of “Segways” on Transportation Vehicles [http://www.fta.dot.gov/civilrights/ada/civil_rights_3893.html].

Section-by-Section Analysis

The other proposed revisions to the 1991 guidelines for buses, over-the-road buses, and vans are discussed below. Most of the revisions are editorial only, and the requirements are the same as in the 1991 guidelines. Revisions that modify current requirements or add new requirements are discussed under each section below.

Question 21: Comments are requested on whether any of the revisions that modify current requirements or add new requirements would add to the costs of the vehicles. Comments should identify the requirement and section number, and provide specific information about any costs.

Chapter T1: Application and Administration

T101 General

This section clarifies that the scoping and technical requirements apply to the acquisition of new, used, and remanufactured vehicles and the remanufacture of existing vehicles to the extent required by regulations issued by the Department of Transportation. As discussed at the beginning of the preamble, the Department of Transportation regulations specify which public and private entities must comply with the transportation provisions of the ADA, and when transportation vehicles acquired or remanufactured by the public or private entities must be accessible. As explained above, the Department of Transportation will conduct a separate rulemaking to amend its regulations so that the accessibility standards included in the regulations are consistent with the revisions to Access Board's transportation vehicle guidelines. When the Department of Transportation amends its regulations, the Department of Transportation will establish the effective date for the revised accessibility standards.

T102 Equivalent Facilitation

The revisions to this section are editorial only. Transit operators can use alternative designs and technologies that result in substantially equivalent or greater accessibility or usability. The Department of Transportation regulations contain procedures for determining whether alternative designs and technologies provide equivalent facilitation.²⁴

²⁴ 49 CFR 37.7(b).

T103 Conventions

The revisions to T103.1 on dimensions and T103.2 on tolerances are editorial only. T103.3 explains that figures are provided for information purposes only, except for the International Symbol of Accessibility in Figure T703. T103.4 explains that measurements are stated in metric and U.S. customary units and that each system of measurement is to be used independently of the other. T103.5 explains that the length of buses, over-the-road buses, and vans is measured from standard bumper to standard bumper, exclusive of any additional protrusions.

T104 Definitions

T104.1 adopts the definitions in the Department of Transportation regulations for terms that are used in the proposed rule and are defined in the Department of Transportation regulations. These terms include: Accessible, bus, fixed route system, new vehicle, over-the-road bus, public entity, remanufactured vehicle, used vehicle, and wheelchair.²⁵ T104.2 uses collegiate dictionaries to determine the meaning of terms that are not defined in the proposed rule or the Department of Transportation regulations. T104.3 explains that singular and plural words, terms, and phrases are used interchangeably. T104.4 adds new definitions for the terms: boarding device, bridgeplate, level boarding bus system, operable part, and surface discontinuities.

²⁵ The Department of Transportation regulations define these terms in 49 CFR 37.3.

Chapter T2: Scoping Requirements

T201 General

This introductory section states that new, used, and remanufactured vehicles are required to comply with the scoping requirements in Chapter 2 to the extent required by the Department of Transportation regulations.

T202 Reduction in Access Prohibited

This section clarifies that modifications to an accessible vehicle must not decrease the accessibility of the vehicle below the requirements in effect at the time of the modification.

T203 Buses, Over-the-Road Buses, and Vans

This section contains the scoping requirements for buses, over-the-road buses, and vans. The scoping requirements address 14 features that affect the accessibility and usability of the vehicles, and reference the technical requirements in Chapters T3 through T8 that the features must comply with to be readily accessible to and usable by individuals with disabilities. Some scoping requirements are based on the size of the vehicles, or apply only to vehicles operated in fixed route systems or vehicles operated by public entities (i.e., State or local government units). The scoping requirements in T203 should be consulted before reading the technical requirements in Chapters T3 through T8 to determine what technical requirements apply to the vehicle.

T203.1 is a general introductory subsection that plainly states the scoping requirements in T203 apply to buses, over-the-road buses, and vans. The subsequent subsections in T203 simply refer to buses, over-the-road buses, and vans as vehicles. Buses, over-the-road buses, and vans are simply referred to as vehicles in the discussion of those subsections below.

Accessible Boarding

The scoping requirements for accessible boarding in T203.2 are modified to address bus rapid transit systems in which some or all of the designated stops have station platforms that are coordinated with the vehicle floor to provide level boarding. These systems are referred to as level boarding bus systems in the proposed rule.

T203.2.1 retains the current requirement in the 1991 guidelines that all vehicles provide lifts or ramps for accessible boarding. The current exception that permits over-the-road buses to provide portable or station-based boarding devices is removed.

T203.2.1 clarifies that lifts and ramps must be capable of being deployed to all designated stops on the route to which the vehicle is assigned and to the roadway.

T203.2.1.2 modifies the scoping requirements for ramps as follows:

• Ramps on vehicles more than 6.7 m (22 feet) in length must be permanently installed and power operated.

• Vehicles that operate in level boarding bus systems where all the designated stops have station platforms are permitted to provide on board the vehicle portable ramps that can be deployed to the roadway in the event that the vehicle breaks down on the roadway.

Additional scoping requirements apply to vehicles operating in level boarding bus systems as follows:

• T203.2.2.1 requires the design of the vehicles to be coordinated with the station platforms to minimize the gap between the vehicle floor and the station platform.

• T203.2.2.2 requires the vehicles to provide ramps or bridgeplates that can be deployed to the station platforms where the gap between the vehicle floor and station platforms is greater than 51 mm (2 inches) horizontally or 16 mm (⅝ inch) vertically when measured at 50 percent passenger load with the vehicle at rest. Where these gap dimensions are not exceeded, accessible boarding can be provided at station platforms without ramps or bridgeplates. Where ramps or bridgeplates are provided on vehicles, T303.8.2 specifies a 1:8 maximum ramp slope to the station platforms.

• Where ramps or bridgeplates are required to provide accessible boarding at station platforms, T203.2.2.2.1 requires vehicles with doorways on one side of the vehicle to provide ramps or bridgeplates in at least one doorway; and T203.2.2.2.2 requires vehicles with doorways on two sides of the vehicle to provide ramps or bridgeplates in at least one doorway on each side of the vehicle. The ramps or bridgeplates must be permanently installed and power operated. Ramps provided to comply with T203.2.1 can be used to provide accessible boarding at one doorway. Bridgeplates can be used to provide accessible boarding at additional doorways.

The technical requirements for lifts, ramps, and bridgeplates are discussed under Chapter T3.

Wheelchair Spaces

The scoping and technical requirements for wheelchair spaces are discussed under Proposed Changes That Received Substantial Comment.

Circulation Paths

T 203.4.1 requires all circulation paths to comply with the technical requirements for surfaces. The technical requirements for surfaces are discussed under T802.

T203.4.2.1 clarifies that circulation paths must connect each wheelchair space to a doorway with a boarding device that can be deployed to the roadway. Where a portable ramp is permitted on vehicles operating in level boarding bus systems, a circulation path must connect each wheelchair space to a doorway where a portable ramp can be deployed to the roadway.

Additional scoping requirements apply to vehicles operating in level boarding bus systems. T403.4.2.2 requires a circulation path to connect each wheelchair space to a doorway that provides accessible boarding at station platforms. Where doorways are provided on two sides of the vehicle, a circulation path must connect each wheelchair space to a doorway on each side of the vehicle that provides accessible boarding at station platforms.

The technical requirements for circulation paths that connect wheelchair spaces to doorways are discussed under Proposed Changes That Received Substantial Comment.

Doorways

T203.5.1 through T203.5.3 require doorways with lifts or ramps, doorways with level-entry boarding, and doorways with steps on over-the-road buses to comply with the applicable technical requirements in T503, which are discussed under that section. T203.5.4 requires doorways that provide accessible boarding to be identified on the exterior of the vehicle by the International Symbol of Accessibility, unless all the doorways provide accessible boarding. Where lighting is provided at doorways, T203.5.5 requires the lighting to comply with the technical requirements for lighting in T803, which are discussed under that section.

Steps

T203.6 requires steps on vehicles to comply with the technical requirements in T504, which are discussed under that section.

Handrails, Stanchions, and Handholds

The revisions to the scoping requirements for handrails, stanchions, and handholds at passenger doorways, at fare collection devices where provided, and along circulation paths in T203.7.1 are editorial only. Transit operators and vehicle manufacturers commenting on the drafts of the proposed rule noted it is not practical to provide stanchions or handholds on high-back reclining seats that are typically provided on over-the-road buses. T203.7.2 clarifies the location of handrails, stanchions, and handholds at forward and rear-facing seats on large vehicles that are more than that are more than 6.7 m (22 feet) in length. Handholds or stanchions must be provided on the back of low-back non-reclining seats, and handrails must be provided overhead or on overhead luggage racks at high-back reclining seats. The technical requirements for handrails, stanchions, and handholds are discussed under T505.

Wheelchair Securement Systems

The scoping and technical requirements for wheelchair securement systems are discussed under Proposed Changes That Received Substantial Comment.

Seat Belts and Shoulder Belts

The revisions to the scoping requirements for seat belts and shoulder belts in T203.9 are editorial only.

Seats

T203.10.1 clarifies the scoping requirements for the number and location of priority seats for passengers with disabilities on vehicles operated in fixed route systems. At least two seats must be designated as priority seats for passengers with disabilities. The seats must be located as near as practicable to a doorway that is used for both boarding and alighting. Where aisle facing and forward facing seats are provided, one of the priority seats must be an aisle facing seat and one of the priority seats must be a forward facing seat. The revisions to the scoping requirements for priority seat signs in T203.10.2 are editorial only. The signs must inform other passengers to make the seats available to passengers with disabilities.

T203.10.3 modifies the scoping requirements for folding or removable armrests on the aisle side of seats on over-the-road buses. The 1991 guidelines require at least 50 percent of aisle seats, including all moveable or removable seats at wheelchair spaces, to provide folding or removable armrests to permit easy access to the seats by passengers with disabilities.²⁶ T203.10.3 requires all moveable or removable aisle seats at wheelchair spaces and at least 25 percent of all other aisle seats to provide folding or removable armrests.

²⁶ 36 CFR 1192.161.

Destination and Route Signs

The revisions to the scoping requirements for destination and route signs in T203.11 are editorial only. Where destination and route signs are provided on the exterior of a vehicle, the signs must be provided on the front and boarding side of the vehicle, and must be illuminated. The technical requirements for characters on the signs are discussed under T702.

Public Address Systems

The revisions to the scoping requirements for public address systems in T203.12 are editorial only. Vehicles more than 6.7 m (22 feet) in length that operate in fixed route systems and stop at multiple designated stops must provide a public address system to announce stops and provide other passenger information within the vehicle.

Automated Stop and Route Announcements

The scoping and technical requirements for automated stop and route announcements are discussed under Proposed Changes That Received Substantial Comment.

Stop Request Systems

The revisions to the scoping requirements for stop request systems in T203.14 are editorial only. Vehicles more than 6.7 m (22 feet) in length that operate in fixed route systems and stop at multiple designated stops on passenger request must provide a stop request system. The technical requirements for stop request systems are discussed under T705.

Fare Collection Devices

T203.15 requires fare collection devices on vehicles to comply with the technical requirements in T806, which are discussed under that section.

Chapter T3: Boarding Devices

T301 General

This section states that the technical requirements for boarding devices in Chapter T3 apply where required by the scoping requirements in Chapter T2.

T302 Lifts

This section contains the technical requirements for lifts. Advisory information is added after T302.1 regarding the Federal Motor Vehicle Safety Standards (FMVSS) for motor vehicle lifts issued by the National Highway Traffic Safety Administration. The FMVSS are generally consistent with T302. Some of the requirements in T302 are more stringent than the FMVSS, including openings in lift platform surfaces in T302.5.1 and T802.3, and transitions at the boarding edges of threshold ramps on lift platforms in T302.5.5 and T802.5. T302 also contains some requirements that are not addressed in the FMVSS, including door releases for manual operation of lifts in T302.4, boarding direction in T302.5.9, and use by standees in T302.5.10.

T302.2 specifies a 273 kg (600 pounds) minimum design load for lifts. The drafts of the proposed rule considered increasing the design load to 300 kg (660 pounds). Comments from transit operators and vehicle manufacturers recommended that changes to the design load be coordinated with the FMVSS. The FMVSS requires a series of tests for lifts using a standard load of 273 kg (600 pounds). Based on the comments, the design load is not changed.

The following technical requirements in T302 are modified:

• T302.4 requires doors that must be opened to manually operate the lift if the power fails to have interior and exterior manual releases. Exterior releases can have locks to secure the vehicle when unattended. The other requirements in T302.4 for manual operation of lifts in the event of power failure are the same as in the 1991 guidelines.

• T302.5.2 increases the height for measuring the clear width and length above the lift platform surface from 766 mm (30 inches) to 1015 mm (40 inches) minimum to accommodate the controls on power wheelchairs. T 302.5.2 also clarifies that the clear length measured at the platform surface is 1015 mm (40 inches) minimum. The other dimensions in T302.5.2 for the lift platform surface are the same as in the 1991 guidelines.

• T302.5.4 revises the specification for gaps between the lift platform surface and the vehicle floor to be consistent with the specifications for openings in T302.5.3. Gaps and openings must not allow the passage of a sphere more than 16 mm (⅝ inch) in diameter.

• T302.5.5 requires transitions at threshold ramps on the boarding edge of lift platforms to comply with T802.5. T802.5 limits surface discontinuities to 6.4 mm (¼ inch) high maximum without edge treatment and 13 mm (½ inch) high maximum with beveled edge treatment. The bevel must have a slope not steeper than 1:2 (50 percent) applied across the entire surface discontinuity. The other requirements in T302.5.5 for the slope of threshold ramps on the boarding edge of lift platforms are the same as in the 1991 guidelines.

• T302.5.6 revises the requirement for visual contrast on the sides of lift platform surfaces to be consistent with the FMVSS. The perimeter of lift platform surfaces must have a 25 mm (1 inch) minimum outline that contrasts visually with the rest of the platform surface.

• T302.5.7 eliminates the load test for lift platform deflection. The FMVSS specifies a load test for lift platform deflection. The other requirements in T302.5.7 for lift platform deflection are the same as in the 1991 guidelines.

The revisions to the other technical requirements in T302 are editorial only. Those technical requirements are the same as in the 1991 guidelines and are summarized below:

• T302.3.1 requires interlocks to prevent the vehicle from moving when the lift is not stowed and the lift controls from operating unless the interlocks are engaged.

• T302.3.2 requires lift controls to be of a momentary contact type; permit the operator to change the operation sequence; and prevent the lift platform from folding, retracting, or stowing when occupied, unless the platform is designed to be occupied when stowed in the passenger area of the vehicle.

• T302.5.1 requires lift platform surfaces to comply with the technical requirements for surfaces in T802.

• T302.5.3 requires edge barriers on the sides of lift platforms to prevent the wheels of wheelchairs from rolling off the platforms.

• T302.5.8.1 specifies the movement rate for lifts under normal operating conditions.

• T302.5.8.2 specifies the movement rate for lifts in the event of a power failure or single failure of a load carrying component.

• T302.5.9 requires lift platforms to permit passengers who use wheelchairs to board the platforms facing either toward or away from the vehicle.

• T302.5.10 requires lift platforms to be usable by passengers who use mobility aids or have difficulty using steps.

• T302.5.11 requires lift platform to have handrails on two sides of the platform that move in tandem with the platform to provide support for passengers in a standing position.

T303 Ramps and Bridgeplates

This section contains the technical requirements for ramps and bridgeplates. The technical requirements for ramp slope in T303.8 are discussed under Proposed Changes That Received Substantial Comment.

The following technical requirements in T303 are also modified:

• T303.4 requires power operated ramps and bridgeplates to be operated manually if the power fails.

• T303.5 requires ramp and bridgeplate surfaces to comply with the technical requirements in T802 for surfaces. T802.3 requires that openings in surfaces not allow the passage of a sphere more than 16 mm (⅝ inch) in diameter, and that elongated openings be placed so that the long dimension is perpendicular to the dominant direction of travel. Cut-outs are permitted in ramps and bridgeplates that are deployed manually for the operator to grasp the surface. The other requirements in T802 for slip resistant surfaces and protrusions on surfaces are the same as in the 1991 guidelines.

• T303.7 clarifies that edge barriers are required where the edges of ramps and bridgeplates are more than 75 mm (3 inches) above the boarding or alighting area.

• T303.9 requires transitions at the boarding edge of ramps and bridgeplates to comply with T802.5. T802.5 limits surface discontinuities to 6.4 mm (¼ inch) high maximum without edge treatment and 13 mm (½ inch) high maximum with beveled edge treatment. The bevel must have a slope not steeper than 1:2 (50 percent) applied across the entire surface discontinuity.

• T303.10 revises the requirement for visual contrast on the sides of ramp and bridgeplate surfaces. The perimeter of ramp and bridgeplate surfaces must have a 25 mm (1 inch) minimum outline that contrasts visually with the rest of the ramp and bridgeplate surface.

The revisions to the other technical requirements in T303 are editorial only. Those technical requirements are the same as in the 1991 guidelines and are summarized below:

• T303.1 permits ramps and bridgeplates to fold or telescope if all the requirements in T303 are met.

• T303.2 specifies the minimum design load for ramps and bridgeplates. The drafts of the proposed rule considered increasing the design load for ramps and bridgeplates to correspond with an increase in the design load for lifts. As discussed under T302, the design load for lifts is not changed and no corresponding change is made to the design load for ramps and bridgeplates. The design load for ramps and bridgeplates that are 760 mm (30 inches) or more in length is 273 kg (600 pounds). The design load for ramps and bridgeplates that are less than 760 mm (30 inches) in length is 136 kg (300 pounds).

• T303.3 requires ramps and bridgeplates to be firmly attached to the vehicle when in use.

• T303.6 specifies the minimum clear width for ramps and bridgeplates.

• T303.11 specifies the gap permitted between the ramp or bridgeplate surface and the vehicle floor when the ramp or bridgeplate is deployed.

• T303.12 requires portable ramps and bridgeplates to be stowed safely when not in use and not to interfere with the maneuvering of wheelchairs.

Chapter T4: Wheelchair Spaces and Securement Systems

The technical requirements for wheelchair spaces in T402, and wheelchair securement systems in T403 are discussed under Proposed Changes That Received Substantial Comment. The revisions to the technical requirements for seat belts and shoulder belts in T404 are editorial only.

Chapter T5: Circulation Paths and Doorways on Buses, Over-the-Road Buses, and Vans

T501 General

This section states that the technical requirements for circulation paths on buses, over-the-road buses, and vans in Chapter T3 apply where required by the scoping requirements in Chapter T2.

T502 Circulation Paths

The technical requirements in T502 for circulation paths that connect wheelchair spaces to doorways that provide accessible boarding are discussed under Proposed Changes That Received Substantial Comment.

T503 Doorways

T503.1 specifies the minimum vertical clearance at doorways with lifts or ramps. The revisions to this section are editorial only, and the technical requirements are the same as in the 1991 guidelines: 1420 mm (56 inches) on vehicles 6.7 m (22 feet) or less in length; 1650 mm (65 inches) on over-the-road buses; and 1725 mm (68 inches) on other vehicles more than 6.7 m (22 feet) in length. A minimum clear opening is not specified for doorways with lifts or ramps since a minimum clear width of 760 mm (30 inches) is specified for lift platforms in T302.5.2 and for ramps in T303.6.

T503.2 adds new technical requirements for doorways with level entry boarding.

T503.2.1 specifies the minimum clear opening at the doorways: 810 mm (32 inches).

T503.2.2 requires thresholds at the doorways to be marked by a contrasting strip 25 mm (1 inch) wide minimum.

T503.3 specifies the minimum clear opening at doorways with steps on over-the-road buses. The revisions to this section are editorial only, and the technical requirements are the same as in the 1991 guidelines: 760 mm (30 inches) from the lowest step tread to a height 1220 mm (48 inches) above the lowest step tread. Where compliance is not structurally feasible, the clear opening is permitted to be 685 mm (27 inches). The clear opening is permitted to taper to 457 (18 inches) from a height 1220 mm (48 inches) above the lowest step tread to the top of the doorway. Hinges and other door mechanisms are permitted to protrude 100 m (4 inches) maximum into the clear opening.

T504 Steps

T504.2 requires step tread surfaces to comply with the technical requirements for surfaces in T802, which are further discussed under that section. T504.3 clarifies the current requirement for contrasting strips at step tread edges by specifying the minimum width of the strips: 25 mm (1 inch).

T505 Handrails, Stanchions, and Handholds

The revisions to the technical requirements for handrails, stanchions, and handholds in T505 are editorial only, and the requirements are the same as in the 1991 guidelines. T505.2 specifies that handrails and stanchions at doorways be configured so that passengers with disabilities can grasp them from outside the vehicle and use them throughout the boarding and alighting process. T505.3 specifies that handrails at fare collection devices be configured so that passengers with disabilities can use them for support when using the fare collection device. T505.4 specifies that handrails and stanchions along circulation paths be configured so that passengers with disabilities can use them when moving through the vehicle. T505.5 specifies that handholds and stanchions on the backs of forward and rear facing seats be located directly adjacent to the aisle so that passengers with disabilities can use them when moving from the aisles to the seats.

Chapter T6: Circulation Paths and Doorways on Rail Vehicles [Reserved]

The technical requirements for circulation paths and doorways on rail vehicles will be included in Chapter T6 when the guidelines for rail vehicles are revised.

Chapter T7: Communication Features

T701 General

This section states that the technical requirements for communication features in Chapter T7 apply where required by the scoping requirements in Chapter T2.

T702 Signs

T702 revises the technical requirements for characters on signs to be consistent with the accessibility guidelines for buildings and facilities. The technical requirements address character proportions, character height, stroke thickness, character spacing, line spacing, and contrast.

T703 International Symbol of Accessibility

T703 adds new technical requirements for the International Symbol of Accessibility, and specifies that the symbol have a background field of at least 100 mm (4 inches) and a non-glare finish, and contrast with its background.

T704 Automated Stop and Route Announcements

The technical requirements for automated stop and route announcements in T704 are discussed under Proposed Changes That Received Substantial Comment.

T705 Stop Request Systems

T705.1 clarifies the technical requirements for audible and visible indicators for stop request systems. Audible stop indicators can be verbal or non-verbal signals. Visible stop indicators can be a light or sign. T705.2 clarifies the location of operable parts for stop request systems at wheelchair spaces, and specifies that the operable parts be located on a side wall or partition 610 mm (24 inches) minimum and 915 mm (36 inches) maximum from the back of the wheelchair space.

Chapter T8: Other Features

T801 General

This section states that the technical requirements for other features in Chapter T8 apply where required by the scoping requirements in Chapter T2 or where referenced in another technical requirement.

T802 Surfaces

T802 contains the technical requirements for surfaces. These requirements are referenced in: T203.4.1 for all circulation paths; T302.5.1 for lift platforms; T303.5 for ramps and bridgeplates; T402.2 for wheelchair spaces; and T504.2 for step treads.

T802.2 requires surfaces to be slip resistant. The 1991 guidelines contain the same requirement.

T802.3 specifies that openings in surfaces not allow the passage of a sphere more than 16 mm (⅝ inch) in diameter, and that elongated openings be placed so that the long dimension is perpendicular to the direction of travel. Cut-outs are permitted in lift platforms that are folded and stowed manually and in ramps and bridgeplates that are deployed manually for the operator to grasp the surface. The 1991 guidelines contain similar requirements for lift platforms.

T802.4 permits protrusions on surfaces to be 6.4 mm (¼ inch) high maximum. The 1991 guidelines contain the same requirement for lift platforms and ramps.

T802.5 addresses differences in levels between two adjacent surfaces, which are referred to as surface discontinuities. Surface discontinuities can be up to 6.4 mm (¼ inch) high without beveled edge treatment, and up to 13 mm (½ inch) high with beveled edge treatment. The 1991 guidelines contain the same requirement for thresholds at lift platforms and ramps. T802.5 modifies the requirement for beveled edge treat by specifying that the bevel extend across the entire surface discontinuity.

T803 Doorway Lighting

T803 addresses doorway lighting and specifies illuminance levels at lift platforms, ramps and bridgeplates, steps, and boarding and alighting areas adjacent to doorways. The illuminance levels are the same as specified in the 1991 guidelines except for lift platforms, which is modified to be consistent with the illuminance levels in the Federal Motor Vehicle Safety Standards for lifts on motor vehicles.

T804 Additional Requirements for Handrails, Stanchions, and Handholds

T804 contains additional technical requirements for handrails, stanchions, and handholds. T804.2 simplifies the requirements for edges by requiring them to be rounded. T804.3 modifies the requirements for cross section to be consistent with the accessibility guidelines for buildings and facilities. The revisions to the requirements in T804.4 on clearances and in T804.5 on structural strength of handrails on lift platforms are editorial only, and those requirements are the same requirement as in the 1991 guidelines.

T805 Operable Parts

T805 contains technical requirements for operable parts. These requirements are referenced in: T706.2 for stop request systems and T806 for fare collection devices.

T805.2 modifies the location height for operable parts: 610 mm (24 inches) minimum and 1220 mm (48 inches) maximum above the floor.

T805.3 requires operation without tight grasping, pinching, or twisting of the wrist and a maximum activation force of 22.5 N (5 pounds). The 1991 guidelines contain the same requirements for stop request systems.

T806 Fare Collection Devices

T806 requires fare collection devices to comply with the technical requirements for operable parts in T805, and the operable parts on fare collection devices to be located so that a wheelchair can approach within 255 mm (10 inches) maximum.

Regulatory Process Matters

Executive Order 12866: Regulatory Planning and Review

This proposed rule is a significant regulatory action under Executive Order 12866 and has been reviewed by the Office of Management and Budget. The Access Board prepared a report to estimate the costs of requiring public transit agencies that operate 100 or more buses in annual maximum service in fixed route systems to provide automated stop and route announcements on buses that are more than 6.7 m (22 feet) in length and operate in fixed route systems. The report is available on the Access Board's Web site at: http://www.access-board.gov/transit/. The report is discussed under Proposed Changes That Received Substantial Comment. Vehicle manufacturers and transit operators are requested to provide information in Questions 1 through 21 on the feasibility and costs of the other proposed changes. The Access Board will consider this information along with other comments on the proposed rule when preparing the final rule and will prepare additional costs estimates based on the information provided, as appropriate.

Regulatory Flexibility Act: Initial Regulatory Flexibility Analysis

The Access Board prepared the following initial regulatory flexibility analysis to describe how the proposed rule affects small entities.

Legal Basis, Objectives, and Reasons for Revising and Updating the Guidelines

The Americans with Disabilities Act requires the Access Board to issue guidelines for transportation vehicles that are readily accessible to and usable by individuals with disabilities. The Access Board initially issued accessibility guidelines for transportation vehicles in 1991. The proposed rule revises and updates the accessibility guidelines for buses, over-the-road buses, and vans. The objectives for revising the guidelines are discussed in the preamble. Proposed changes that received substantial comment when drafts of the proposed rule were made available are discussed at the beginning of the preamble, including the reasons for each of the proposed changes. The other revisions to the guidelines are discussed after the proposed changes that received substantial comment. Most of these revisions are editorial only and restate current requirements in plain language that is clear and easy to understand.

Small Entities Affected

Small public entities (i.e., State or local government units with a population of less than 50,000) and small private entities (i.e., small businesses that meet the size standards established by the Small Business Administration) are affected by the Access Board's guidelines to the extent that they are subject to the Americans with Disabilities Act and the Department of Transportation regulations implementing the Americans with Disabilities Act. The Department of Transportation regulations apply to the following entities:

• Public entities that provide designated public transportation (i.e., general or special transportation service, including charter service, provided to the general public on a regular and continuing basis), excluding public school transportation. 49 CFR 37.21 (a) (1) and 37.27 (a).

• Private entities that provide specified public transportation (i.e., general or special transportation service, including charter service, provided to the general public on a regular and continuing basis). 49 CFR 37.21 (a) (2).

• Private entities that are not primarily engaged in the business of transporting people but operate a demand responsive or fixed route system. 49 CFR 37.21 (a) (3).

Reporting and Recordkeeping Requirements, Other Compliance Requirements, and Significant Alternatives

There are no reporting or recordkeeping requirements. Proposed changes that received substantial comment when drafts of the proposed rule were made available are discussed at the beginning of the preamble. Questions 1 through 21 request comments on the proposed changes, including information on the feasibility and costs on the proposed changes. The following questions may be of interest to small entities:

• Questions 1 through 6 request information on the feasibility and costs associated with the proposed 1:6 maximum slope requirement for buses and vans equipped with ramps, as well as alternatives.

• Questions 7, 8, and 9 requests information on the feasibility and costs associated with the proposed 34 inches minimum clear width requirement for circulation paths connecting wheelchair spaces to doorways that provide accessible boarding, and alternative performance specifications and test methods.

• Questions 11 and 12 request information on the feasibility and costs associated with the proposed requirements for maneuvering clearances at wheelchair spaces.

• Questions 13 and 14 request information on costs associated with proposed changes to the technical requirements for wheelchair securement systems on large vehicles with a gross vehicle weight rating 30,000 pounds or more.

• Question 17 requests information from private entities who contract with public transit agencies that operate 100 or more buses in annual maximum service in fixed route systems and acquire buses to operate in the fixed route systems under contract with the public transit agencies regarding the proposed requirement for automated stop and route announcements.

Comments are also requested on alternatives to any of the new or modified requirements in the proposed rule. The Access Board will consider the comments and information on the proposed changes when preparing the final rule and final regulatory flexibility analysis, and will prepare additional cost estimates, as appropriate.

Other Applicable Federal Rules

The Americans with Disabilities Act requires the Department of Transportation to issue regulations to implement the transportation provisions of the statute. The Department of Transportation regulations include accessibility standards for transportation vehicles that are consistent with the Access Board's transportation vehicle guidelines. The Department of Transportation's regulations are legally enforceable. The Department of Transportation will conduct a separate rulemaking to amend its regulations so that the accessibility standards included in the regulations are consistent with the revisions to Access Board's transportation vehicle guidelines. When the Department of Transportation amends its regulations, the Department of Transportation will establish the effective date for the revised accessibility standards.

Executive Order 13132: Federalism

The proposed rule adheres to the fundamental federalism principles and policy making criteria in Executive Order 13132. The proposed rule revises and updates guidelines issued under the Americans with Disabilities Act, civil rights legislation that was enacted by Congress pursuant to its authority to enforce the Fourteenth Amendment to the U.S. Constitution and to regulate commerce. The Americans with Disabilities Act was enacted “to provide a clear and comprehensive national mandate for the elimination of discrimination against individuals with disabilities” and “to ensure that the Federal government plays a central role in enforcing the standards established in this chapter on behalf of individuals with disabilities. 42 U.S.C. 12101 (b) (1) and (3). The Americans with Disabilities Act recognizes the authority of State and local governments to enact and enforce laws that “provide for greater or equal protection for the rights of individuals with disabilities than are afforded by this chapter.” 42 U.S.C. 12201 (b). The Access Board made drafts of the proposed rule available for public review and comment. State and local governments, including public transit agencies, provided comments on the proposed changes. As discussed in the preamble, the comments were considered and changes were made to the proposed rule based on the comments.

Unfunded Mandates Reform Act

The Unfunded Mandates Reform Act does not apply to proposed or final rules that enforce constitutional rights of individuals or enforce statutory rights that prohibit discrimination on the basis of race, color, sex, national origin, age, handicap, or disability. Since the proposed rule is issued under the Americans with Disabilities Act, which prohibits discrimination on the basis of disability, an assessment of the rule's effect on State, local, and tribal governments, and the private sector is not required by the Unfunded Mandates Reform Act.

List of Subjects in 36 CFR Part 1192

Civil rights, Individuals with disabilities, Transportation.

David M. Capozzi,
Executive Director.

For the reasons stated in the preamble, the Access Board proposes to amend 36 CFR part 1192 as follows:

PART 1192—AMERICANS WITH DISABILITIES ACT (ADA) ACCESSIBILITY GUIDELINES FOR TRANSPORTATION VEHICLES

1. The authority citation for 36 CFR part 1192 continues to read as follows:

Authority: 42 U.S.C. 12204.

2. Amend part 1192 by revising subpart B to read as follows:

Subpart B—Buses, Over-the-Road Buses, and Vans

§ 1192.21 Accessibility guidelines.

The accessibility guidelines for buses, over-the-road buses, and vans are set forth in the Appendix to this part. The guidelines apply to the acquisition of new, used, and remanufactured transportation vehicles, and the remanufacture of existing transportation vehicles to the extent required by regulations issued by the Department of Transportation pursuant to the Americans with Disabilities Act at 49 CFR part 37.

Subpart G—[Removed]

3. Amend part 1192 by removing subpart G.

Subpart F—[Redesignated as Subpart G]

4. Amend part 1192 by redesignating subpart F as subpart G.

5. Revise the appendix to part 1192 to read as follows:

Appendix to Part 1192—Americans With Disabilities Act (ADA) Accessibility Guidelines for Transportation Vehicles

BILLING CODE 8150-01-P

[FR Doc. 2010-18255 Filed 7-23-10; 8:45 am]

BILLING CODE 8150-01-C